ENVIRONMENTAL PROTECTION AGENCY

[EPA-HQ-OPP-2008-0316; FRL-9967-71]

Tetrachlorvinphos; Notice of Receipt of Request To Voluntarily Cancel Certain Pesticide Registrations

AGENCY: Environmental Protection Agency (EPA).

ACTION: Notice.

SUMMARY: In accordance with the Federal Insecticide, Fungicide, and Rodenticide Act (FIFRA), EPA is issuing a notice of receipt of a request by the registrant to voluntarily cancel their registrations of certain products containing the pesticide tetrachlorvinphos (TCVP). The request would not terminate the last TCVP products registered for use in the United States. EPA intends to grant this request at the close of the comment period for this announcement unless the Agency receives substantive comments within the comment period that would merit its further review of the request, or unless the registrant withdraws its request. If this request is granted, any sale, distribution, or use of products listed in this notice will be permitted after the registration has been cancelled only if such sale, distribution, or use is consistent with the terms as described in the final order.

DATES: Comments must be received on or before November 9, 2017.

ADDRESSES: Submit your comments, identified by docket identification (ID) number EPA-HQ-OPP-2008-0316, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Khue Nguyen, Pesticide Re-Evaluation Division (7508P), Office of Pesticide Programs, Environmental Protection Agency, 1200 Pennsylvania Ave. NW., Washington, DC 20460-0001; telephone number: 703-347-0248; email address: nguyen.khue@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Background on the Receipt of Request To Cancel

This notice announces receipt by EPA of a request from the registrant Bayer Healthcare, LLC to cancel certain TCVP product registrations. TCVP is an organophosphate insecticide registered for use on livestock and livestock premises and as pet collars and pet dust/powders in residential settings. In a letter dated July 7, 2017, Bayer Healthcare, LLC requested EPA to cancel certain pesticide product registrations identified in Table 1 of Unit III. Specifically, Bayer stated that the pesticide product registrations identified in Table 1 were TCVP pet collar products that were never commercialized. Bayer noted that since the products identified in Table 1 were not in the channels of trade, no existing stocks provision is required for these products. The registrant's request will not terminate the last TCVP products registered in the United States.

III. What action is the agency taking?

This notice announces receipt by EPA of a request from a registrant to cancel certain TCVP product registrations. The affected products and the registrant making the request are identified in Tables 1 and 2 of this unit.

Unless a request is withdrawn by the registrant or if the Agency determines that there are substantive comments that warrant further review of this request, EPA intends to issue an order canceling the affected registrations.

Table 1—TCVP Product Registrations With Pending Requests for Cancellation
Registration No. | Product name | Company
11556-164 | Americare Rabon Flea & Tick Collar for Dogs | Bayer Healthcare, LLC.
11556-165 | Americare Rabon Flea & Tick Collar for Cats | Bayer Healthcare, LLC.

Table 2 of this unit includes the name and address of record for the registrant of the products listed in Table 1 of this unit. This number corresponds to the first part of the EPA registration numbers of the products listed in Table 1 of this unit.

Table 2—Registrant Requesting Voluntary Cancellation
EPA Company No. | Company name and address
11556 | Bayer Healthcare, LLC., P.O. Box 390, Shawnee Mission, KS 66201-0390.

IV. What is the agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The TCVP registrant has requested that EPA waive the 180-day comment period. Accordingly, EPA will provide a 30-day comment period on the proposed requests.

V. Procedures for Withdrawal of Requests

Registrants who choose to withdraw a request for product cancellation or use deletion should submit the withdrawal in writing to the person listed under FOR FURTHER INFORMATION CONTACT. If the products(s) have been subject to a previous cancellation action, the effective date of cancellation and all other provisions of any earlier cancellation action are controlling.

VI. Provisions for Disposition of Existing Stocks

Existing stocks are those stocks of registered pesticide products that are currently in the United States and that were packaged, labeled, and released for shipment prior to the effective date of the action. If the request for voluntary cancellation is granted, the Agency intends to publish the cancellation order in the Federal Register.

In any order issued in response to this request for cancellation of product registrations, EPA proposes to include the following provisions for the treatment of any existing stocks of the products listed in Table 1 of Unit III.

For this voluntary cancellation request, the registrant indicates that the products listed in Table 1 of Unit III are not in the channels of trade because they were never commercialized. Therefore, no existing stocks provision is needed. The cancellation will be effective on the date of publication of the cancellation order in the Federal Register. Thereafter, the registrant will be prohibited from selling or distributing the products identified in Table 1 of Unit III., except for export consistent with FIFRA section 17 (7 U.S.C. 136o) or for proper disposal.

Authority: 7 U.S.C. 136 et seq.

Dated: September 19, 2017.
Yu-Ting Guilaran,
Director, Pesticide Re-Evaluation Division, Office of Pesticide Programs.

[FR Doc. 2017-21795 Filed 10-6-17; 8:45 am]

BILLING CODE 6560-50-P